DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

SMS Lines

[Waiver Petition Docket Number FRA-2007-0007]

The SMS Lines (SMS), a Class III railroad, seeks a waiver of compliance from the requirements of Title 49 Code of Federal Regulations (CFR) § 223.11 Requirements for existing locomotives. SMS has operated within the Pureland Industrial Park in Bridgeport, Gloucester County, New Jersey since June, 1994. The petitioner proposes to use three switching type locomotives numbers 102, 308, and 309 on a limited reserve basis for yard and local switching service.

SMS Locomotives Number 102, model DS 4-4-750 was built in 1951, 308 model S-12 was built in 1953, and 309 model S-12 was built in 1952, by the Baldwin Locomotive Works (BLW). They would operate over approximately 5 miles of track with four grade crossings within the Industrial Park at Bridgeport, New Jersey, and one grade crossing at the Valery Refinery in Paulsboro, New Jersey. Current operations average 1 train per day, 6 days per week, year-round at each location operating at restricted speed, as all track is FRA Class I (10 mph).

The petitioner believes that this locomotive can be safely operated throughout the industrial park and refinery with the current non-compliant safety-type glazing. The cost to the SMS for installation of all new window frames and compliant FRA Types I and II glazing is significant, with only a marginal increase in safety due to the low speed. Historically, railroad glazing has not been vandalized within the Pureland Industrial Park or the Valero Refinery, and there are no overhead bridges or tunnels.

All three locomotives are in reserve status, and only used when the regularly assigned locomotives are unavailable due to inspection or repair. SMS plans to upgrade the glazing in all three locomotives to compliant FRA Types I and II material as they are overhauled and repainted.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (i.e., Waiver Petition Docket Number FRA-2007-0007) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on November 26, 2007.
Grady C. Cothen, Jr.,
Deputy Associate Administrator for Safety Standards and Program Development.

[FR Doc. E7-23200 Filed 11-29-07; 8:45 am]

BILLING CODE 4910-06-P